DEPARTMENT OF AGRICULTURE

Rural Business-Cooperative Service

Notice of Request for Extension of a Currently Approved Information Collection

AGENCY: Rural Business-Cooperative Service, USDA.

ACTION: Proposed collection; comments requested.

SUMMARY: In accordance with the Paperwork Reduction Act of 1995, this notice announces the Rural Business-Cooperative Service's intention to request an extension for a currently approved information collection for the University Value-Added Research Grant.

DATES: Comments on this notice must be received by August 29, 2006 to be considered.

FOR FURTHER INFORMATION CONTACT: Ms. Tracey L. Kennedy, Acting Program Leader-Funded Programs, Cooperative Programs, Rural Development, USDA, STOP 3252, Room 4210, 1400 Independence Avenue, SW., Washington, DC 20250-3252. Telephone: (202) 690-1428, e-mail: tracey.kennedy@wdc.usda.gov.

SUPPLEMENTARY INFORMATION: Title: University Value-Added Research Grant.

OMB Number: 0570-0046.

Expiration Date of Approval: December 31, 2006.

Type of Request: Extension of a currently approved information collection.

Abstract: The Farm Security and Rural Investment Act of 2002 (Pub. L. 107-171, signed May 13, 2002) authorized the Secretary of the U.S. Department of Agriculture (USDA) to award a grant to support research at a university concerning the effects of projects for value-added agricultural commodities or products on agricultural producers and the commodity markets. The program is administered by Cooperative Programs within USDA's Rural Development. A single grant was awarded, on a competitive basis, to the University of Missouri in 2003. The grant period has been extended to April 1, 2007. This information collection will be retired upon completion of grant deliverables.

Estimate of Burden: Public reporting burden for this collection is estimated to average 2 hours per response.

Respondents: One grantee awarded.

Estimated Number of Respondents: 1.

Estimated Number of Responses per Respondent: 4.

Estimated Number of Responses: 4.

Estimated Total Annual Burden on Respondents: 8 hours.

Copies of this information collection can be obtained from Cheryl Thompson, Regulations and Paperwork Management Branch (202) 692-0043.

Comments

Comments are invited on: (a) Whether the proposed collection of information is necessary for the proper performance of the functions of Rural Development, including whether the information will have practical utility; (b) the accuracy of Rural Development's estimate of the burden to collect the required information, including the validity of the strategy used; (c) ways to enhance the quality, utility, and clarity of the information to be collected; and (d) ways to minimize the burden of the collection of information on those who are to respond, including through the use of appropriate automated, electronic, mechanical, or other technological collection techniques or other forms of information technology. Comments on the paperwork burden may be sent to Cheryl Thompson, Regulations and Paperwork Management Branch, Rural Development, U.S. Department of Agriculture, STOP 0742, 1400 Independence Avenue, SW., Washington, DC 20250-0742. All responses to this notice will be summarized and included in the request for Office of Management and Budget approval. All comments will become a matter of public record.

Dated: June 15, 2006.
Jackie J. Gleason,
Acting Administrator, Rural Business-Cooperative Service.

[FR Doc. 06-5914 Filed 6-29-06; 8:45 am]

BILLING CODE 3410-XY-P